DEPARTMENT OF TRANSPORTATION

FAA Approval of Noise Compatibility Program; Seattle-Tacoma International Airport, Seattle, Washington

AGENCY: Federal Aviation Administration, DOT.

ACTION: Notice.

SUMMARY: The Federal Aviation Administration (FAA) announces its findings on the noise compatibility program submitted by the Seattle-Tacoma International Airport under the provisions of the Aviation Safety and Noise Abatement Act, hereinafter referred to as “the Act” and FAA regulations. These findings are made in recognition of the description of Federal and nonfederal responsibilities in Senate Report No. 96-52 (1980). On December 13, 2013, the FAA determined that the noise exposure maps submitted by the Seattle-Tacoma International Airport were in compliance with applicable requirements. On May 29, 2014, the FAA approved the Seattle-Tacoma International Airport noise compatibility program. Nineteen of the Twenty-two recommendations of the program were approved. One recommendation was disapproved, one withdrawn and one approved in part and disapproved in part.

DATES: The effective date of the FAA's approval of the Seattle-Tacoma International Airport noise compatibility program is May 29, 2014.

FOR FURTHER INFORMATION CONTACT: Cayla Morgan, Federal Aviation Administration, Seattle Airports District Office, 1601 Lind Ave. SW., Renton, WA 98057-3356, telephone 425 227 2653. Documents reflecting this FAA action may be reviewed at this same location.

SUPPLEMENTARY INFORMATION: This notice announces that the FAA has given its overall approval to the noise compatibility program for Seattle-Tacoma International Airport, effective May 29, 2014.

Under section 47504 of the Act, an airport operator who has previously submitted a noise exposure map may submit to the FAA a noise compatibility program which sets forth the measures taken or proposed by the airport operator for the reduction of existing non-compatible land uses and prevention of additional non-compatible land uses within the area covered by the noise exposure maps. The Act requires such programs to be developed in consultation with interested and affected parties including local communities, government agencies, airport users, and FAA personnel. Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act and is limited to the following determinations:

a. The noise compatibility program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA. Where Federal funding is sought, requests for project grants must be submitted to the FAA Seattle Airports District Office in Seattle, Washington. Seattle-Tacoma International Airport submitted to the FAA on October 24, 2013, the noise exposure maps, descriptions, and other documentation produced during the noise compatibility planning study conducted from 2009 through 2013. The Seattle-Tacoma International Airport noise exposure maps were determined by FAA to be in compliance with applicable requirements on December 13, 2014. Notice of this determination was published in the Federal Register on December 23, 2013 (78 FR 77548-77549).

The Seattle-Tacoma International Airport study contains a proposed noise compatibility program comprised of actions designed for phased implementation by airport management and adjacent jurisdictions. It was requested that the FAA evaluate and approve this material as a noise compatibility program as described in section 47504 of the Act. The FAA began its review of the program on December 13, 2014, and was required by a provision of the Act to approve or disapprove the program within 180 days (other than the use of new or modified flight procedures for noise control). Failure to approve or disapprove such program within the 180-day period shall be deemed to be an approval of such program.

The submitted program contained 9 noise abatement measures, 10 noise mitigation/land use compatibility measures, and 3 administrative recommendations. The FAA completed its review and determined that the procedural and substantive requirements of the Act and FAR Part 150 have been satisfied. The overall program therefore, was approved by the FAA on May 29, 2014.

Approval was granted for 19 measures. One measure was withdrawn so no action was required. MeasureA-10 to address maintenance run-ups was previously disapproved in the 2002 NCP and continues to be disapproved. Measure M-2B for sound insulation of schools was approved as a continuation of a previously approved program but the sound insulation of the Highline Community College was disapproved for Airport Improvement Program funding as it is outside the newly revised noise remedy boundary.

These determinations are set forth in detail in a Record of Approval signed by the Airports Division Manager, Northwest Mountain Region on May 29, 2014. The Record of Approval, as well as other evaluation materials and the documents comprising the submittal are available for review at the FAA office listed above and at the Airport Noise Office of the Seattle-Tacoma International Airport. The Record of Approval also will be available on-line at http://www.faa.gov/airports/environmental/airport_noise/part_150/states/.

Issued in Renton, Washington, on June 3, 2014.
Sarah P. Dalton,
Manager, Airports Division, Northwest Mountain Region.

[FR Doc. 2014-13684 Filed 6-11-14; 8:45 am]

BILLING CODE 4910-13-P